DEPARTMENT OF VETERANS AFFAIRS

[OMB Control Number 2900-0572]

Agency Information Collection Activities Under OMB Review

AGENCY: Veterans Benefits Administration, Department of Veterans Affairs.

ACTION: Notice.

SUMMARY: In compliance with the Paperwork Reduction Act (PRA) of 1995 (44 U.S.C., 3501 et seq.), this notice announces that the Veterans Benefits Administration (VBA), Department of Veterans Affairs, has submitted the collection of information abstracted below to the Office of Management and Budget (OMB) for review and comment. The PRA submission describes the nature of the information collection and its expected cost and burden; it includes the actual data collection instrument.

DATES: Comments must be submitted on or before April 5, 2001.

FOR FURTHER INFORMATION OR A COPY OF THE SUBMISSION CONTACT: Denise McLamb, Information Management Service (045A4), Department of Veterans Affairs, 810 Vermont Avenue, NW., Washington, DC 20420, (202) 273-8030 or FAX (202) 273-5981 or e-mail: denise.mclamb@mail.va.gov. Please refer to “OMB Control Number 2900-0572.”

SUPPLEMENTARY INFORMATION: Title: Application for Spina Bifida Benefits, VA Form 21-0304.

OMB Control Number: 2900-0572.

Type of Review: Reinstatement, without change, of a previously approved collection for which approval has expired.

Abstract: The law allows VA to pay a monetary allowance to a child born with Spina Bifida who is a natural child of a veteran who served in the Republic of Vietnam during the Vietnam era. The form is used to gather information to determine eligibility for the monetary allowance and appropriate level of payment.

An agency may not conduct or sponsor, and a person is not required to respond to a collection of information unless it displays a currently valid OMB control number. The Federal Register notice with a 60-day comment period soliciting comments on this collection of information was published on September 25, 2000, at pages 57654 and 57655.

Affected Public: Individuals or households.

Estimated Annual Burden: 335 hours.

Estimated Average Burden Per Respondent: 10 minutes.

Frequency of Response: On occasion.

Estimated Number of Respondents: 2,000.

Send comments and recommendations concerning any aspect of the information collection to VA's OMB Desk Officer, OMB Human Resources and Housing Branch, New Executive Office Building, Room 10235, Washington, DC 20503 (202) 395-7316. Please refer to “OMB Control Number 2900-0572” in any correspondence.

Dated: January 31, 2001.
By direction of the Secretary.
Donald L. Neilson,
Director, Information Management Service.

[FR Doc. 01-5300 Filed 3-5-01; 8:45 am]

BILLING CODE 8320-01-U